DEPARTMENT OF AGRICULTURE

Natural Resources Conservation Service

[Docket No. NRCS-2016-0004]

Notice of Proposed Changes to the National Handbook of Conservation Practices for the Natural Resources Conservation Service

AGENCY: Natural Resources Conservation Service (NRCS), U.S. Department of Agriculture (USDA).

ACTION: Notice of availability of proposed changes to NRCS' National Handbook of Conservation Practices for public review and comment.

SUMMARY: Notice is hereby given of the intention of NRCS to issue a series of revised conservation practice standards in the National Handbook of Conservation Practices. These standards include Anionic Polyacrylamide (PAM) Application (Code 450), Compost Facility (Code 317), Constructed Wetland (Code 656), Critical Area Planting (Code 342), Drainage Water Management (Code 554), Feed Management (Code 592), Field Border (Code 386), Filter Strip (Code 393), Irrigation Land Leveling (Code 464), Irrigation System, Surface and Subsurface (Code 443), Residue and Tillage Management, No Till (Code 329), Residue and Tillage Management, Reduced Till (Code 345), and Stream Habitat Improvement (Code 395). NRCS State Conservationists who choose to adopt these practices for use within their States will incorporate them into section IV of their respective electronic Field Office Technical Guide. These practices may be used in conservation systems that treat highly erodible land (HEL) or on land determined to be a wetland. Section 343 of the Federal Agriculture Improvement and Reform Act of 1996 requires NRCS to make available for public review and comment all proposed revisions to conservation practice standards used to carry out HEL and wetland provisions of the law.

DATES: Effective Date: This is effective August 22, 2016.

Comment Date: Submit comments on or before September 21, 2016. Final versions of these new or revised conservation practice standards will be adopted after the close of the 30-day period and after consideration of all comments.

ADDRESSES: Comments should be submitted, identified by Docket Number NRCS-2016-0004, using any of the following methods:

• Federal eRulemaking Portal: http://www.regulations.gov. Follow the instructions for submitting comments.

• Mail or hand-delivery: Public Comments Processing, Attention: Regulatory and Agency Policy Team, Strategic Planning and Accountability, Natural Resources Conservation Service, 5601 Sunnyside Avenue, Building 1-1112D, Beltsville, Maryland 20705.

NRCS will post all comments on http://www.regulations.gov. In general, personal information provided with comments will be posted. If your comment includes your address, phone number, email, or other personal identifying information, your comments, including personal information, may be available to the public. You may ask in your comment that your personal identifying information be withheld from public view, but this cannot be guaranteed.

FOR FURTHER INFORMATION CONTACT: Terri Ruch, Acting National Environmental Engineer, Conservation Engineering Division, Natural Resources Conservation Service, 1400 Independence Avenue SW., South Building, Room 6133, Washington, DC 20250.

Electronic copies of the proposed revised standards are available through http://www.regulations.gov by accessing Docket No. NRCS-2016-0004. Alternatively, copies can be downloaded or printed from the following Web site: http://go.usa.gov/TXye. Requests for paper versions or inquiries may be directed to Emil Horvath, National Practice Standards Review Coordinator, Natural Resources Conservation Service, Central National Technology Support Center, 501 West Felix Street, Fort Worth, Texas 76115.

SUPPLEMENTARY INFORMATION: The amount of the proposed changes varies considerably for each of the conservation practice standards addressed in this notice. To fully understand the proposed changes, individuals are encouraged to compare these changes with each standard's current version as shown at: http://www.nrcs.usda.gov/wps/portal/nrcs/detailfull/national/technical/cp/ncps/?cid=nrcs143_026849. To aid in this comparison, the following are highlights of some of the proposed revisions to each standard.

Anionic PAM Application (Code 450): The revision adds a purpose to the standard, which is to “improve soil surface infiltration rate and minimize soil crusting to allow for uniform plant growth on irrigated land.” There was also criteria for this purpose added to the standard which sets the PAM application rate to not exceed 4 pounds per acre, as well as criteria for mixing and injecting PAM.

Compost Facility (Code 317): Revised language to improve readability and clarify intent of criteria. Criteria was revised to include facility siting and design language. Additional sections, “Criteria for Mechanically Assisted Composting” and “Power Supply” were added.

Constructed Wetland (Code 656): Revised language to improve readability and clarify intent of criteria. Additional conditions related to bioreactors and saturated buffers were added. Added criteria under the heading “Additional Criteria Applicable to Constructed Wetlands for Water Quality Improvement” to use the design procedure recognized by the regulatory and academic conservation partners, and to select a design hydraulic retention time that will achieve the intended water quality results. Added consideration to address odor concerns near populated areas.

Critical Area Planting (Code 342): Revised language to improve readability and clarify intent of criteria. The purpose of stabilizing areas being degraded by the concentration of salts or other chemicals was deleted and is covered in other conservation practice standards. Critical slope criteria to stabilize banks, shorelines, and other areas was changed from 2:1 slopes to 3:1 slopes.

Drainage Water Management (Code 554): The entire document was edited for clarity. Two purposes were removed: (1) Reduce wind erosion or particulate matter (dust) emissions and (2) provide seasonal wildlife habitat. Significant additions and clarifications were made to most of the “General Criteria,” particularly instructions under “Control Elevation” and “Control Zone.” Similarly, changes were made to “Additional Criteria to Reduce Nutrient, Pathogen, and Pesticide Loading;” and “Additional Criteria to Improve Productivity, Health, and Vigor of Plants.” The “Considerations” and “Plans and Specifications” sections were rewritten.

Feed Management (Code 592): Changes in format, stronger emphasis on feed management for pathogen control and odor and greenhouse gas mitigation, feed management by grouping of animals, as well as select wording changes are incorporated. The new version should be easier to use by NRCS field staff and easier to understand by producers.

Field Border (Code 386): Clarified the “Purpose” statements to better align with NRCS resource concerns. Minor edits were made throughout the document for clarification purposes. Added the purpose: “reduce excessive sediment in surface waters.”

Filter Strip (Code 393): Practice purposes were revised. Minor editing was made throughout the document to clarify criteria. The noxious or invasive plants language was removed since this is NRCS policy for all matters. Added criteria to remove phosphorus by harvesting above-ground biomass at least once each year.

Irrigation Land Leveling (Code 464): This standard was updated to be more readable and formatted according to current standards. A “Design” section was added to the standard to provide current reference information. The “Operation and Maintenance” section was expanded to include more detailed information to the operator to ensure the practice will last longer.

Irrigation System, Surface, and Subsurface (Code 443): Very few substantial changes. Clarifying words and grammatical corrections make up the majority of changes. A criteria was added in the “Application Efficiency and Distribution Uniformity” section that directs users to the current technical guidance.

Residue and Tillage Management, No Till (Code 329): Practice purposes edited to align with NRCS resource concerns. Added the purpose: “reduce excessive sediment in surface waters.” Made minor edits throughout the document to improve clarity. Removed the 2,000 pounds per acre of residue to increase plant available moisture as this is no longer needed for the erosion prediction tools in use at this time. The needed amount of residue now states 60 percent.

Residue and Tillage Management, Reduced Till (Code 345): Added the purpose: “reduce sheet, rill, and wind erosion, and excessive sediment in surface waters.” Made minor edits to improve clarity throughout the document. Added the criteria to document and determine the purpose to reduce sheet, rill, and wind erosion, and excessive sediment in surface waters.

Stream Habitat Improvement (Code 395): The definition and purpose are simplified to better focus on habitat. Language was added to better coordinate with other conservation practices. Application of the practice within a watershed context is now required as a specified criterion rather than as a consideration. Revised language as needed to improve readability and clarify intent of criteria.

Signed this 12th day of August 2016, in Washington, DC.
Jason A. Weller,
Chief, Natural Resources Conservation Service.

[FR Doc. 2016-19866 Filed 8-19-16; 8:45 am]

BILLING CODE 3410-16-P